LEGAL SERVICES CORPORATION

45 CFR Part 1611

Eligibility; 1611 Negotiated Rulemaking Working Group Meeting

AGENCY: Legal Services Corporation.

ACTION: Regulation negotiation working group meeting.

SUMMARY: LSC is conducting a Negotiated Rulemaking to consider revisions to its eligibility regulations at 45 CFR part 1611. This document announces the dates, times, and address of the next meeting of the working group, which is open to the public.

DATES: The Legal Services Corporation's 1611 Negotiated Rulemaking Working Group will meet on February 11-12, 2002. The meeting will begin at 9 a.m. on February 11, 2002. It is anticipated that the meeting will end by 3:30 p.m. on February 12, 2002.

ADDRESSES: The meeting will be held in the Ninth Floor Conference Room at the offices of the Legal Services Corporation, 750 First Street, NE., Washington, DC 20002.

FOR FURTHER INFORMATION CONTACT: Mattie C. Condray, Senior Assistant General Counsel, Legal Services Corporation, 750 First St., NE., 11th Floor, Washington, DC 20001; (202) 336-8817 (phone); (202) 336-8952 (fax); mcondray@lsc.gov.

SUPPLEMENTARY INFORMATION: LSC is conducting a Negotiated Rulemaking to consider revisions to its eligibility regulations at 45 CFR part 1611. The working group will hold its next meeting on the dates and at the location announced above. The meeting is open to the public. Upon request, meeting notices will be made available in alternate formats to accommodate visual and hearing impairments. Individuals who have a disability and need an accommodation to attend the meeting may notify Naima Washington at 202-336-8841; washingn@lsc.gov.

Victor M. Fortuno,
Vice President for Legal Affairs, General Counsel & Corporate Secretary.

[FR Doc. 02-3294 Filed 2-6-02; 4:38 pm]

BILLING CODE 7050-01-P